DEPARTMENT OF COMMERCE

National Oceanic and Atmospheric Administration

50 CFR Part 635

RIN 0648-XA823

Atlantic Highly Migratory Species; Electronic Dealer Reporting System Workshop

AGENCY: National Marine Fisheries Service (NMFS), National Oceanic and Atmospheric Administration (NOAA), Commerce.

ACTION: Notice of public workshop.

SUMMARY: On June 28, 2011, NMFS published a proposed rule that considered requiring, among other things, Federal Atlantic swordfish, shark, and tunas dealers (except for dealers reporting Atlantic bluefin tuna) to report commercially-harvested Atlantic sharks, swordfish, and bigeye, albacore, yellowfin, and skipjack (BAYS) tunas to NMFS through one centralized electronic reporting system. This electronic reporting system would allow dealers to submit Atlantic sharks, swordfish, and BAYS tuna data on a more real-time basis and more efficiently, which will reduce duplicative data submissions from different regions. NMFS proposed to delay the effective date of the electronic reporting requirements until 2012 in order to give sufficient time for dealers to adjust to implementation of the new system and the additional requirements. In this notice, NMFS announces the date and location for an upcoming workshop in the Caribbean area in order to introduce the new reporting system to HMS dealers. NMFS will announce additional workshops in a future notice.

DATES: The initial Workshop will be held on December 14, 2011, from 6 to 8 p.m.

ADDRESSES: The initial workshop will be held in St. Thomas, USVI, Frenchman's Reef and Morning Star Marriott Beach Resort, 5 Estate Bakkreore, St. Thomas, Virgin Islands, 00801. See SUPPLEMENTARY INFORMATION for additional details.

FOR FURTHER INFORMATION CONTACT: Delisse Ortiz or Karyl Brewster-Geisz, at (301) 427-8503 (phone) or (301) 713-1917 (fax) or http://www.nmfs.noaa.gov/sfa/hms/index.htm.

SUPPLEMENTARY INFORMATION: Atlantic HMS are managed under the dual authority of the Magnuson-Stevens Fishery Conservation and Management Act (MSA), 16 U.S.C. 1801 et seq., and the Atlantic Tunas Convention Act (ATCA), 16 U.S.C. 971 et seq. Under the MSA, NMFS must ensure consistency with the National Standards and manage fisheries to maintain optimum yield, rebuild overfished fisheries, and prevent overfishing. Under the ATCA, the Secretary of Commerce is required to promulgate regulations, as may be necessary and appropriate, to implement the recommendations adopted by the International Commission for the Conservation of Atlantic Tunas (ICCAT). The authority to issue regulations under MSA and ATCA has been delegated from the Secretary to the Assistant Administrator for Fisheries, NOAA. The implementing regulations for Atlantic HMS are at 50 CFR part 635.

Background

The current regulations and infrastructure of the Atlantic HMS quota-monitoring systems result in a delay of several weeks to almost a month before NMFS receives dealer data. This can affect management and monitoring of small Atlantic HMS quotas and short fishing seasons. As such, on June 28, 2011 (76 FR 37750), NMFS published a proposed rule in the Federal Register that considered requiring, among other things, Federal Atlantic swordfish, shark, and tunas dealers (except for dealer reporting Atlantic bluefin tuna) to report commercially-harvested Atlantic sharks, swordfish, and BAYS tunas to NMFS through one centralized electronic reporting system. Under this new system, dealers would submit HMS data electronically instead of in a paper format and include additional information that is necessary for management of HMS (e.g., vessel and logbook information). The electronic submission of data will eliminate the delay associated with mailing in reports to NMFS. In this manner, HMS landings data will be submitted on a more real-time basis, allowing for timely and efficient data collection for management of Atlantic HMS.

In order to give sufficient time for dealers to adjust to implementation of the new system and the additional requirements, NMFS proposed delaying implementation of the new HMS electronic reporting system for all federally-permitted HMS dealers until 2012. Additionally, NMFS decided to conduct outreach to HMD dealers to train them how to use the new system and help ease the transition from the current paper format to the new HMS electronic reporting system. NMFS will conduct an initial workshop for HMS dealers in St. Thomas, U.S.V.I. on December 14, 2011 (see DATES and ADDRESSES). NMSF will announce additional workshops in other regions in a future Federal Register notice.

Dated: November 18, 2011.
Steven Thur,
Acting Director, Office of Sustainable Fisheries, National Marine Fisheries Service.

[FR Doc. 2011-30268 Filed 11-22-11; 8:45 am]

BILLING CODE 3510-22-P